ENVIRONMENTAL PROTECTION AGENCY

[FRL-9931-42-OEI; EPA-HQ-OEI-2015-0132]

Amendment for the EPA Travel, Other Accounts Payable and Accounts Receivable Files (EPA-29)

AGENCY: Environmental Protection Agency (EPA).

ACTION: Notice.

SUMMARY: Pursuant to the provisions of the Privacy Act of 1974 (5 U.S.C. 552a), the Environmental Protection Agency (EPA) is giving notice that it is amending the EPA Travel, Other Accounts Payable and Accounts Receivable Files system. The system is being amended to change the name from the EPA Travel, Other Accounts Payable and Accounts Receivable Files to the Compass Financials IT System. This system of records will contain information on EPA travel, accounts payable, accounts receivable, budgeting, and reporting.

DATES: Persons wishing to comment on this system of records notice must do so by September 8, 2015.

ADDRESSES: Submit your comments, identified by Docket ID No. EPA-HQ-OEI-2015-0132, by one of the following methods:

• www.regulations.gov: Follow the online instructions for submitting comments.

• Email: oei.docket@epa.gov.

• Fax: 202-566-1752.

• Mail: OEI Docket, Environmental Protection Agency, Mail Code: 2822T, 1200 Pennsylvania Ave. NW., Washington, DC 20460.

• Hand Delivery: OEI Docket, EPA/DC, WJC West Building, Room 3334, 1301 Constitution Ave. NW., Washington, DC. Such deliveries are only accepted during the Docket's normal hours of operation, and special arrangements should be made for deliveries of boxed information.

Instructions: Direct your comments to Docket ID No. EPA-HQ-OEI-2014-0132. The EPA's policy is that all comments received will be included in the public docket without change and may be made available online at www.regulations.gov, including any personal information provided, unless the comment includes information claimed to be Confidential Business Information (CBI) or other information for which disclosure is restricted by statute. Do not submit information that you consider to be CBI or otherwise protected through www.regulations.gov. The www.regulations.gov Web site is an “anonymous access” system, which means the EPA will not know your identity or contact information unless you provide it in the body of your comment. If you send an email comment directly to the EPA without going through www.regulations.gov your email address will be automatically captured and included as part of the comment that is placed in the public docket and made available on the Internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses. For additional information about the EPA's public docket visit the EPA Docket Center homepage at http://www.epa.gov/epahome/dockets.htm.

Docket: All documents in the docket are listed in the www.regulations.gov index. Although listed in the index, some information is not publicly available, e.g., CBI or other information for which disclosure is restricted by statute. Certain other material, such as copyrighted material, will be publicly available only in hard copy. Publicly available docket materials are available either electronically in www.regulations.gov or in hard copy at OEI Docket, EPA/DC, WJC West Building, Room 3334, 1301 Constitution Ave. NW., Washington, DC. The Public Reading Room is open from 8:30 a.m. to 4:30 p.m., Monday through Friday excluding legal holidays. The telephone number for the Public Reading Room is (202) 566-1744, and the telephone number for the OEI Docket is (202) 566-1752.

FOR FURTHER INFORMATION CONTACT: Craig Clark, Office of Chief Financial Officer, (202) 564-8806.

SUPPLEMENTARY INFORMATION:

General Information

The EPA is amending the EPA Travel, Other Accounts Payable and Accounts Receivable Files (System number: EPA-29) to change the name to the Compass Financials IT System. This system of records will contain information on EPA travel, accounts payable and accounts receivable, budgeting and funds management activities. Compass Financials is a web application using object-oriented design methodologies and development techniques. It provides the tools needed to effectively manage, budget and track expenditures. Compass Financials supports the financial management information requirements of both managers and administrative staff. It provides financial information at both detailed and summary levels in a variety of formats, which enables agencies to evaluate and analyze the cost of operations. All Compass Financials subsystems are fully integrated, so that transactions update budgets, financial plans, and the general ledger at the time they are processed. Compass Financials provides local users with the flexibility to establish and maintain operating plans and provides users in the EPA with the information needed for consolidated financial reporting and control. Compass Financials is an IT system that spans two locations—the EPA National Computer Center (NCC) and the CGI Data Center (PDC).

Dated: July 16, 2015.
Ann Dunkin,
Chief Information Officer.

EPA-29

System Name:

Compass Financials IT System

Location:

Compass Financials has components located in the CGI Phoenix Data Center (PDC), located in Phoenix, AZ, as well as the EPA National Computer Center, located in Research Triangle Park, NC.

Categories of Individuals in the System:

Individuals who owe monies to and individuals who are owed monies from the Environmental Protection Agency are covered by the system. This includes, but is not limited to, monies owed to the EPA for refunds, penalties, travel advances, Interagency Agreements, or Freedom of Information Requests. This system also contains information on corporations and other entities that are in debt to the EPA. Records on corporations and other entities are not subject to the Privacy Act. This system also includes monies owed by the EPA to Agency employees, consultants, private citizens, and others who travel or perform other services for the EPA.

Categories of Records in the System:

This system of records is composed of an accounts receivable module, travel, other accounts payable modules and reporting. The system contains personal identifying information such as names, addresses, and Social Security numbers of persons indebted to or owed money by the EPA. The accounts receivable module contains information about the nature of the debt or claim, the amount owed, the history status of the debt, and information that relates to and documents efforts to collect debts owed the Agency. The travel and other accounts payable modules contain information about the travel authorization; travel vouchers, which support the claim for the reimbursement to the travel; travel advance authorizations, which provide fund advances to pay travel expenses incurred in the performance of official government business; and itemized invoices for other services performed for the EPA. In both modules, banking information necessary to support electronic funds transfers may be maintained.

Authority for Maintenance of the System:

OMB Circular A-127; Chief Financial Officers Act of 1990, Public Law 101-576; Federal Managers Financial Integrity Act of 1982, Public Law 97-255 (31 U.S.C. 3512 et seq.); 31 U.S.C. Chapter 11.

Purpose(s):

Records in the accounts receivable module are used primarily to create a record of, and track, all accounts receivable and to assist the EPA in collecting debts owed the Agency. Records in the travel and other accounts payable modules are used primarily to create a record of and to track all monies owed by the EPA for authorized travel and for other services performed for the EPA. Tracks and executes the Agency's budget. Provides reporting in all areas listed above.

Routine Uses of Records Maintained in the System, Including Categories of Users, and the Purposes of Such Uses:

General routine uses D, E, F, G, K and L apply to this system. Records may also be disclosed:

1. To the Office of Management and Budget, and Department of Treasury for Purpose of carrying out the EPA's financial management responsibilities. Another use for Treasury is to identify and prevent payment errors, waste, fraud, and abuse within federal spending.

2. To provide debtor information to debt collection agencies, under contract to the EPA, to help collect debts owed the EPA. Debt collection agencies will be required to comply with the Privacy Act and their agents will be made subject to the criminal penalty provisions of the Act.

Note: The term “debtor information” as used in the routine uses above is limited to the individual's name, address, social security number, and other information necessary to identify the individual; the amount, status and history of the claim; and the agency or program under which the claim arose.

Disclosure to Consumer Reporting Agencies:

Pursuant to 5 U.S.C. 552a(b)(12), disclosure may be made to a consumer reporting agency as defined in the Fair Credit Reporting Act (15 U.S.C. 1681a(f)) or the Federal Claims Collection Act of 1966 (31 U.S.C. 3701(a)(30)).

Policies and Practices for Storing, Retrieving, Accessing, Retaining, and Disposing of Records in the System:

Storage:

The Compass Momentum component stores records at the PDC on a storage area network (SAN). Backup tapes are maintained at a disaster recovery site. The Compass Data Warehouse also stores data on a SAN, located at Research Triangle Park, North Carolina.

Retrievability:

Accounts receivable module records are indexed by account receivable control number (a number assigned to each “incoming” account receivable). Individual records can be accessed by using a cross reference table which links accounts receivable control numbers with the debtors name and associated debtor information. Travel and other accounts payable module records are retrievable by name and social security number.

Safeguards:

Computer records are maintained in a secure, password protected computer system. Paper records are maintained in lockable file cabinets. All records are maintained in secure, access-controlled areas or buildings.

Retention and Disposal:

Records are maintained for 6 years and 3 months after final payment. They are deleted when no longer needed, unless related to the Superfund program cost recovery efforts. Superfund cost recovery records are maintained more than 30 years after the completion of cost recovery at the site.

System Manager(s) and Address:

Comptroller, Office of the Comptroller, Environmental Protection Agency, William Jefferson Clinton Building, 1200 Pennsylvania Avenue NW., Washington, DC 20460.

Notification Procedures:

Any individual who wants to know whether this system of records contain a record about him or her, who wants access to his or her record, or who wants to contest the contents of a record, should make a written request to the EPA FOIA Office, Attn: Privacy Officer, MC2822T, 1200 Pennsylvania Avenue NW., Washington, DC 20460.

Record Access Procedure:

Individuals seeking access to their own personal information in this system of records will be required to provide adequate identification (e.g., driver's license, military identification card, employee badge or identification card). Additional identity verification procedures may be required as warranted. Requests must meet the requirements of the EPA regulations at 40 CFR part 16.

Contesting Procedure:

Requests for correction or amendment must identify the record to be changed and the corrective action sought. Requests must be submitted to the Agency contact indicated on the initial document for which the related contested record was submitted.

Record Source Categories:

Record subjects, supervisors, consumer reporting agencies, debt collection agencies, the Department of the Treasury and other Federal agencies.

Systems Exempted From Certain Provisions of the Act:

None.

[FR Doc. 2015-18722 Filed 7-29-15; 8:45 am]

BILLING CODE 6560-50-P